DEPARTMENT OF JUSTICE

Drug Enforcement Administration

Manufacturer of Controlled Substances; Notice of Application

Pursuant to 21 CFR 1301.33(a), this is notice that on May 18, 2004, Dade Behring Inc., Route 896 Corporate Boulevard, Building 100, Attention: RA/QA, Post Office Box 6101, Newark, Delaware 19714, made application by renewal to the Drug Enforcement Administration (DEA) for registration as a bulk manufacturer of the basic classes of controlled substances listed:

Drug | Schedule
Tetrahydrocannabinols (7370) | I
Ecognine (9180) | II
Morphine (9300) | II

The company plans to produce bulk products used for the manufacture of reagents and drug calibrator/controls, DEA exempt products.

Any other such applicant and any person who is presently registered with DEA to manufacture such a substance may file comments or objections to the issuance of the proposed registration pursuant to 21 CFR 1301.33(a).

Any such comments or objections may be addressed, in quintuplicate, to the Deputy Assistant Administrator, Office of Diversion Control, Drug Enforcement Administration, United States Department of Justice, Washington, DC 20537, Attention: DEA Federal Register Representative (CCD) and must be filed no later than October 12, 2004.

Dated: July 21, 2004.
William J. Walker,
Deputy Assistant Administrator, Office of Diversion Control, Drug Enforcement Administration.

[FR Doc. 04-18175 Filed 8-9-04; 8:45 am]

BILLING CODE 4410-09-M